DEPARTMENT OF HEALTH AND HUMAN SERVICES

Indian Health Service

Injury Prevention Program; Tribal Injury Prevention Cooperative Agreement Program (TIPCAP)

Announcement Type: New/Competing Continuation

Funding Announcement Number: HHS-2020-IHS-IPP-0001

Assistance Listing (Catalog of Federal Domestic Assistance or CFDA) Number: 93.284

Key Dates

Application Deadline Date: October 1, 2020

Earliest Anticipated Start Date: December 1, 2020

I. Funding Opportunity Description

Statutory Authority

The Indian Health Service (IHS), Office of Environmental Health and Engineering, Division of Environmental Health Services, Injury Prevention Program (IPP) is accepting applications for the Tribal Injury Prevention Cooperative Agreement Program. This program is authorized under: 25 U.S.C. 13, Snyder Act, and Indian Health Care Improvement Act at 25 U.S.C. 1621b, 25 U.S.C. 1603(11), and 25 U.S.C. 1665a(c)(1)(J). This program is described in the Assistance Listings located at https://beta.sam.gov (formerly known as Catalog of Federal Domestic Assistance) under 93.284.

Background

The mission of the IHS Injury Prevention Program is to raise the health status of American Indian/Alaska Native (AI/AN) people to the highest possible level by decreasing the incidence of severe injuries and death to the lowest possible level, and by increasing the ability of Tribes to address their injury problems.

The IHS IPP categorizes injuries by intent and type. Unintentional injury types are falls, burns, drowning, poisoning, and motor vehicle related injuries. Unintentional injuries are the leading cause of death for AI/AN people between the ages of 1 and 44 years.

Intentional injury types are suicide and violence related injuries, and are also a leading cause of death. Considering only injury-specific causes of death, suicide is the third leading injury cause of death among all AI/AN. Depending on the injury type, AI/AN experience injury mortality rates that are 2.5 to 8.7 times higher than the U.S. all races rates. (Trends in Indian Health 2017 Edition, IHS, Division of Program Statistics).

Purpose

The purpose of this IHS cooperative agreement is to address the disparity in injury rates by encouraging Tribes to implement focused, community-based injury prevention programs and projects using evidence-based strategies. Injury prevention evidence-based strategies are prevention methods that have been scientifically evaluated and proven to prevent injuries, including strategic changes to the environment (for example, roadways, elder homes for fall hazards, smoke alarms) and strategies to promote behavior change (such as car seat use, float coat use). Injury prevention programs and projects are most effective when based on these model practices. The use of well-planned, promising, and innovative injury prevention strategies is also recommended.

Nationally, the leading causes of AI/AN unintentional injury deaths are due to motor vehicle crashes (Trends in Indian Health 2017 Edition, IHS, Division of Program Statistics) and falls are a leading cause of hospitalization for older adults (ages 55+) in several IHS Areas. Motor vehicle related injuries and elder falls are priority areas of the IHS IPP. To view IHS IPP supported evidence-based and promising strategies visit the IHS IPP website (https://www.ihs.gov/InjuryPrevention/) or Selected Evidence-based Strategies for Preventing Injuries (https://www.ihs.gov/sites/injuryprevention/themes/responsive2017/display_objects/documents/IHS_IPP_Evidence-based_Strategies.pdf). The IHS IPP will accept applications for programs addressing the following injury types:

Unintentional Injuries

• Motor vehicle related

• Falls

• Burns

• Drowning

• Poisoning

Intentional Injuries

• Suicide

• Violence related

This cooperative agreement opportunity is available to any eligible applicant regardless of whether or not they have previously received IHS IPP Part I or II funding. The IHS will accept applications in either of the two following categories:

Part I—Injury Prevention Programs: 2,500 minimum population requirement

Part II—Evidence-based strategies or promising and innovative projects: No minimum population requirement

Part I—Injury Prevention Programs

Part I applicants must meet the IHS minimum user population of 2,500. IHS user population is defined as AI/AN people who have utilized services funded by the IHS at least once during the last three-year period. This requirement allows the IHS IPP to reach a large number of AI/AN people with the limited amount of available funding. Additionally, it is important for the determination of reliable outcomes. In order to have the statistical power needed to detect differences of relatively small events in a small community, such as annual motor vehicle crashes with an injury or death, it is necessary that there be an adequate sample size. The minimum sample size needed was determined to be 2,500 persons.

Part II—Evidence-Based Strategies or Promising and Innovative Strategy Projects

There is no IHS user population requirement.

II. Award Information

Funding Instrument

Cooperative Agreement

Estimated Funds Available

The total funding identified for fiscal year (FY) 2020 is approximately $1,900,000. Individual award amounts for the Part I first budget year are anticipated to be from $80,000 up to $125,000 and the Part II first budget year awards are anticipated to be from $20,000 up to $32,000. The funding available for competing and subsequent continuation awards issued under this announcement is subject to the availability of funds and budgetary priorities of the Agency. The IHS is under no obligation to make awards that are selected for funding under this announcement.

Anticipated Number of Awards

Approximately 24 awards will be issued under this program announcement. Applicants may apply for more than one of the areas of funding but only one will be awarded.

Part I—Five-Year Injury Prevention Programs: Up to $125,000 will be awarded to each successful applicant each year (up to 12 awards).

Part II—Five-Year Evidence-based and Innovative Strategy Projects: Up to $32,000, for each of the five years will be awarded to successful applicants (up to 12 awards).

Applicants will only be issued one award, either for Part 1—Injury Prevention Programs or Part II—Evidence-based or Promising and Innovative Strategy Projects. Applicants must respond to the appropriate “Criteria” under Section VI—Application Review Information.

Period of Performance

The period of performance is for five years.

Cooperative Agreement

Cooperative agreements awarded by the Department of Health and Human Services (HHS) are administered under the same policies as a grant. However, the funding agency (IHS) is anticipated to have substantial programmatic involvement in the project during the entire award segment. Below is a detailed description of the level of involvement required for IHS.

Substantial Involvement Description for Cooperative Agreement

A. For the IHS IPP, substantial involvement includes providing reporting templates and tools and technical assistance to the Tribal Injury Prevention Coordinator grantee in program planning, implementation, and evaluation. Technical assistance includes the following activities which will be supported by an outside contractor:

1. Conduct biannual conference calls for technical assistance and program progress.

2. Assist awardee to create an annual work plan, develop an evaluation plan, write progress reports, conduct data analysis, interpret findings, and provide feedback on products developed by the awardee.

3. Produce the Tribal Injury Prevention Cooperative Agreement (TIPCAP) newsletter for information sharing and collaboration.

4. Conduct Part I annual site visits for technical assistance.

5. Develop a program guide for program implementation and injury prevention best practices.

6. Provide training and webinars for the awardee.

7. Coordinate an annual awardee workshop to build skills, share new information and innovative strategies, and to assist awardees in program implementation specific to AI/AN communities.

B. Part I—Injury Prevention Program Involvement

IHS will assign an IHS Injury Prevention Specialist (Area, District) or designee to serve as the Project Officer (technical advisor/monitor) for the Tribal Injury Prevention Program awardee. Responsibilities of the IHS Project Officers are described below:

1. Assist the Tribal Injury Prevention Coordinator with decisions regarding implementation of program activities, including evaluation (data collection, data quality, analysis, and reporting), use of public information materials, and quality assurance (adherence to evidence-based practice methods).

2. Monitor the overall progress and challenges of the awardee's program and their adherence to the terms and conditions of the cooperative agreement.

3. Provide guidance for meeting deadlines of required progress and financial reports.

4. Support contractor oversight by participating in site visits, meetings, and conference calls.

5. Provide guidance in preparing articles for publication and/or presentations of program successes, lessons learned, and new findings.

6. Recommend training and continuing education courses to develop the Tribal Injury Prevention Coordinator's competencies.

7. Attend the annual awardee workshop.

C. Part II—Evidence-Based and Promising and Innovative Strategy Projects

IHS will assign an IHS IPP Specialist or designee to serve as the local Project Officer. Responsibilities of the IHS local Project Officers are described below:

1. Provide guidance to the awardee involving strategy, evaluation (data collection, analysis, reporting, and interpretation of findings), use of public information materials, quality assurance, coordination of activities, training, reports, budget and evaluation.

2. Attend annual awardee workshop.

Technical assistance will also include the following activities which will be supported by an outside contractor:

a. Schedule biannual conference calls for technical assistance.

b. Assist awardee in writing progress reports.

c. Provide guidance on injury prevention best practices.

d. Provide training to awardees.

III. Eligibility Information

1. Eligibility

• This is a full competition. Under this announcement, an applicant must be defined as one of the following under 25 U.S.C. 1603: A federally-recognized Indian Tribe as defined by 25 U.S.C. 1603(14). The term “Indian Tribe” means any Indian Tribe, band, nation, or other organized group or community, including any Alaska Native village or group or regional or village corporation as defined in or established pursuant to the Alaska Native Claims Settlement Act (85 Stat. 688) [43 U.S.C. 1601 et seq.], which is recognized as eligible for the special programs and services provided by the United States to Indians because of their status as Indians.

• A Tribal organization as defined by 25 U.S.C. 1603(26). The term “Tribal organization” has the meaning given the term in section 4 of the Indian Self-Determination and Education Assistance Act (25 U.S.C. 5304): “Tribal organization” means the recognized governing body of any Indian Tribe; any legally established organization of Indians which is controlled, sanctioned, or chartered by such governing body or which is democratically elected by the adult members of the Indian community to be served by such organization and which includes the maximum participation of Indians in all phases of its activities: Provided That, in any case where a contract is let or grant made to an organization to perform services benefiting more than one Indian Tribe, the approval of each such Indian Tribe shall be a prerequisite to the letting or making of such contract or grant. Applicant shall submit letters of support and/or Tribal resolutions from the Tribes to be served.

• An Urban Indian organization (UIO), as defined by 25 U.S.C. 1603(29), that currently has a grant or contract award from the IHS under the Indian Health Care Improvement Act, 25 U.S.C. 1651-1660h. A UIO is a nonprofit corporate body situated in an urban center, governed by an urban Indian controlled board of directors, and providing for the maximum participation of all interested Indian groups and individuals, which body is capable of legally cooperating with other public and private entities for the purpose of performing the activities described in 25 U.S.C. 1653(a). Applicants must provide proof of non-profit status with the application, e.g., 501(c)(3).

Note: Please refer to Section IV.2 (Application and Submission Information/Subsection 2, Content and Form of Application Submission) for additional proof of applicant status documents required, such as Tribal resolutions, proof of non-profit status, etc.

2. Cost Sharing or Matching

The IHS does not require matching funds or cost sharing for grants or cooperative agreements.

3. Other Requirements

Applications with budget requests that exceed the highest dollar amount outlined under the Award Information, Estimated Funds Available section, or exceed the Period of Performance outlined under the Award Information, Period of Performance section will be considered not responsive and will not be reviewed. The Division of Grants Management (DGM) will notify the applicant.

Additional Required Documentation

The following documentation is required.

Tribal Resolution

The DGM must receive an official, signed Tribal resolution prior to issuing a Notice of Award (NoA) to any applicant selected for funding. An Indian Tribe or Tribal organization that is proposing a project affecting another Indian Tribe must include resolutions from all affected Tribes to be served. However, if an official, signed Tribal resolution cannot be submitted with the application prior to the application deadline date, a draft Tribal resolution must be submitted with the application by the deadline date in order for the application to be considered complete and eligible for review. The draft Tribal resolution is not in lieu of the required signed resolution, but is acceptable until a signed resolution is received. If an official signed Tribal resolution is not received by DGM when funding decisions are made, then a NoA will not be issued to that applicant and it will not receive IHS funds until it has submitted a signed resolution to the Grants Management Specialist listed in this Funding Announcement.

Proof of Non-Profit Status

Organizations claiming non-profit status must submit a current copy of the 501(c)(3) Certificate with the application.

IV. Application and Submission Information

1. Obtaining Application Materials

The application package and detailed instructions for this announcement are hosted on http://www.Grants.gov.

Please direct questions regarding the application process to Mr. Paul Gettys at (301) 443-2114 or (301) 443-5204.

2. Content and Form Application Submission

The applicant must include the project narrative as an attachment to the application package. Mandatory documents for all applicants include:

• Abstract (one page) summarizing the project.

• Application forms:

1. SF-424, Application for Federal Assistance.

2. SF-424A, Budget Information—Non-Construction Programs.

3. SF-424B, Assurances—Non-Construction Programs.

• Project Narrative (not to exceed 10 pages). See Section IV.2.A Project Narrative for instructions.

1. Background information on the organization that is relevant to injury prevention.

2. Proposed scope of work, objectives, and activities that provide a description of what the applicant plans to accomplish.

• Budget Justification and Narrative (not to exceed 3 pages). See Section IV.2.B Budget Narrative for instructions.

• Work plan with timeframe.

• Logic model for the program/project.

• Evaluation plan for proposed strategies.

• Tribal Resolution(s).

• Letters of Support from organization's Board of Directors.

• Letters of commitment from partners with a role in the work plan.

• 501(c)(3) Certificate for Urban Indian organizations

• Biographical sketches for all Key Personnel.

• Contractor/Consultant resumes or qualifications and scope of work.

• Disclosure of Lobbying Activities (SF-LLL).

• Certification Regarding Lobbying (GG-Lobbying Form).

• Copy of current Negotiated Indirect Cost rate (IDC) agreement (required in order to receive IDC).

• Organizational Chart (optional).

• Documentation of current Office of Management and Budget (OMB) Financial Audit (if applicable).

Acceptable forms of documentation include:

1. Email confirmation from Federal Audit Clearinghouse (FAC) that audits were submitted; or

2. Face sheets from audit reports. Applicants can find these on the FAC website: https://harvester.census.gov/facdissem/Main.aspx.

Public Policy Requirements

All Federal public policies apply to IHS grants and cooperative agreements with the exception of the Discrimination Policy.

Requirements for Project and Budget Narratives

A. Project Narrative: This narrative should be a separate document that is no more than 10 pages and must: (1) Have consecutively numbered pages; (2) use black font 12 points or larger; (3) be single-spaced; (4) and be formatted to fit standard letter paper (8½ x 11 inches).

Be sure to succinctly answer all questions listed under the evaluation criteria (refer to Section V.1, Evaluation Criteria) and place all responses and required information in the correct section noted below or they will not be considered or scored. If the narrative exceeds the page limit, the application will be considered not responsive and not be reviewed. The 10-page limit for the narrative does not include the work plan, logic model, evaluation plan, standard forms, Tribal resolutions, budget, budget justifications, narratives, and/or other appendix items.

There are three parts to the narrative: Part 1—Program Information; Part 2—Program Planning and Evaluation; and Part 3—Program Report. See below for additional details about what must be included in the narrative.

The page limits below are for each narrative and budget submitted.

Part 1: Program Information (limit—2 pages)

Section 1: Needs

Briefly describe the Tribe, Indian organization or Urban Indian organization and service population.

Describe the needs of the Tribe, Indian organization or Urban Indian organization by answering the following questions:

a. What is the injury problem?

b. Whom does the problem affect?

c. Why is it a problem?

d. What are the attributes (risk and contributing factors) of the problem?

Part 2: Program Planning and Evaluation (limit—5 pages)

Section 1: Program Plans

Describe the following for the Tribe, Indian organization or Urban Indian organization:

a. Design of the proposed program the applicant proposes to develop

b. Choice of each evidence-based or promising and innovative strategy to address the selected injury type(s), including a description of which intervention(s) related to the strategy will be implemented

Section 2: Program Evaluation

a. Describe fully and clearly how the proposed strategies will impact the community in minimizing or reducing severe injuries of the target population

b. Describe fully and clearly how each project indicator (objective) will be evaluated, including a sample list of data variables to be collected (i.e. car seat event data, responses from community surveys, home fall hazards corrected, law enforcement citations)

c. Identify anticipated or expected benefits for the Tribal community or target population

Part 3: Program Report (limit—3 pages)

Describe your organization's significant program activities over the past three years associated with the goals of this announcement, including injury prevention projects, campaigns, and results.

Describe the accomplishments of the goals established for the timeframe, or if applicable, provide justification for the lack of progress.

B. Budget Narrative (page limit—3)

Provide a budget narrative that explains the amounts requested for each line of the budget. Police enforcement services related to evidence-based strategies are allowable and should be included under the “contractual” category. The budget narrative should specifically describe how each item will support the achievement of proposed objectives. Be very careful about showing how each item in the “other” category is justified. For subsequent budget years, the narrative should highlight the changes from year 1 or clearly indicate that there are no substantive budget changes during the period of performance. Do NOT use the budget narrative to expand the project narrative.

3. Submission Dates and Times

Applications must be submitted through Grants.gov by 11:59 p.m. EDT on the Application Deadline Date. Any application received after the application deadline will not be accepted for review. Grants.gov will notify the applicant via email if the application is rejected.

If technical challenges arise and assistance is required with the application process, contact Grants.gov Customer Support (see contact information at https://www.Grants.gov). If problems persist, contact Mr. Paul Gettys (Paul.Gettys@ihs.gov), Acting Director, DGM, by telephone at (301) 443-2114 or (301) 443-5204. Please be sure to contact Mr. Gettys at least ten days prior to the application deadline. Please do not contact the DGM until you have received a Grants.gov tracking number. In the event you are not able to obtain a tracking number, call the DGM as soon as possible.

IHS will not acknowledge receipt of applications.

4. Intergovernmental Review

Executive Order 12372 requiring intergovernmental review is not applicable to this program.

5. Funding Restrictions

• Preaward costs are allowable up to 90 days before the start date of the award provided the costs are otherwise allowable if awarded. Preaward costs are incurred at the risk of the applicant.

• The available funds are inclusive of direct and indirect costs.

• Only one cooperative agreement will be awarded per applicant.

6. Electronic Submission Requirements

All applications must be submitted via Grants.gov. Please use the http://www.Grants.gov website to submit an application. Find the application by selecting the “Search Grants” link on the homepage. Follow the instructions for submitting an application under the Package tab. No other method of application submission is acceptable.

If the applicant cannot submit an application through Grants.gov, a waiver must be requested. Prior approval must be requested and obtained from Mr. Paul Gettys, Acting Director, DGM. A written waiver request must be sent to GrantsPolicy@ihs.gov with a copy to Paul.Gettys@ihs.gov. The waiver must: (1) Be documented in writing (emails are acceptable), before submitting an application by some other method, and (2) include clear justification for the need to deviate from the required application submission process.

Once the waiver request has been approved, the applicant will receive a confirmation of approval email containing submission instructions. A copy of the written approval must be included with the application that is submitted to DGM. Applications that are submitted without a copy of the signed waiver from the Director of the DGM will not be reviewed. The Grants Management Officer of the DGM will notify the applicant via email of this decision. Applications submitted under waiver must be received by the DGM no later than 5:00 p.m., EDT, on the Application Deadline Date. Late applications will not be accepted for processing. Applicants that do not register for both the System for Award Management (SAM) and Grants.gov and/or fail to request timely assistance with technical issues will not be considered for a waiver to submit an application via alternative method.

Please be aware of the following:

• Please search for the application package in https://www.Grants.gov by entering the Assistance Listing (CFDA) number or the Funding Opportunity Number. Both numbers are located in the header of this announcement.

• If you experience technical challenges while submitting your application, please contact Grants.gov Customer Support (see contact information at https://www.Grants.gov).

• Upon contacting Grants.gov, obtain a tracking number as proof of contact. The tracking number is helpful if there are technical issues that cannot be resolved and a waiver from the agency must be obtained.

• Applicants are strongly encouraged not to wait until the deadline date to begin the application process through Grants.gov as the registration process for SAM and Grants.gov could take up to twenty working days.

• Please follow the instructions on Grants.gov to include additional documentation that may be requested by this funding announcement.

• Applicants must comply with any page limits described in this funding announcement.

• After submitting the application, the applicant will receive an automatic acknowledgment from Grants.gov that contains a Grants.gov tracking number. IHS will not notify the applicant that the application has been received.

Dun and Bradstreet (D&B) Data Universal Numbering System (DUNS)

Applicants and grantee organizations are required to obtain a DUNS number and maintain an active registration in the SAM database. The DUNS number is a unique 9-digit identification number provided by D&B, which uniquely identifies each entity. The DUNS number is site specific; therefore, each distinct performance site may be assigned a DUNS number. Obtaining a DUNS number is easy, and there is no charge. To obtain a DUNS number, please access the request service through http://fedgov.dnb.com/webform, or call (866) 705-5711.

The Federal Funding Accountability and Transparency Act of 2006, as amended (“Transparency Act”), requires all HHS recipients to report information on sub-awards. Accordingly, all IHS grantees must notify potential first-tier sub-recipients that no entity may receive a first-tier sub-award unless the entity has provided its DUNS number to the prime grantee organization. This requirement ensures the use of a universal identifier to enhance the quality of information available to the public pursuant to the Transparency Act.

System for Award Management (SAM)

Organizations that are not registered with SAM must have a DUNS number first, then access the SAM online registration through the SAM home page at https://www.sam.gov/SAM/ (U.S. organizations will also need to provide an Employer Identification Number from the Internal Revenue Service that may take an additional 2-5 weeks to become active). Please see SAM.gov for details on the registration process and timeline. Registration with the SAM is free of charge, but can take several weeks to process. Applicants may register online at https://www.sam.gov/SAM/.

Additional information on implementing the Transparency Act, including the specific requirements for DUNS and SAM, are available on the DGM Grants Management, Policy Topics web page: https://www.ihs.gov/dgm/policytopics/.

V. Application Review Information

Weights assigned to each section are noted in parentheses. The 10-page narrative should include only the first year of activities; information for multi-year projects should be included as an appendix. See “Multi-year Project Requirements” at the end of this section for more information. The narrative section should be written in a manner that is clear to outside reviewers unfamiliar with prior related activities of the applicant. It should be well organized, succinct, and contain all information necessary for reviewers to understand the project fully.

1. Criteria

Quality programs and projects are the aim of the IHS IPP. Quality programs and projects are those that are well planned and implemented, targeted, focused, well evaluated, and manageable. To achieve quality programs and projects the IHS IPP limits the injury type and number of strategies and interventions applicants may propose. For additional information on evidence-based strategies for elder fall prevention and motor vehicle related injuries visit the IHS IPP website (https://www.ihs.gov/InjuryPrevention/) or Selected Evidence-based Strategies for Preventing Injuries (https://www.ihs.gov/sites/injuryprevention/themes/responsive2017/display_objects/documents/IHS_IPP_Evidence-based_Strategies.pdf). Although motor vehicle related injuries and elder fall prevention are priority areas of the IHS IPP, no advantage or bonus points will be given for proposals in these areas. The IHS IPP will accept applications for the following injury types, and evidence based, promising, and innovative strategies, and their corresponding interventions.

Unintentional Injuries

Unintentional Injuries—Motor Vehicle Related
| Interventions for strategy
Evidence-based strategies:
Seat belt use | Policy and laws, Education, Law enforcement.
Car seat use | Policy and Laws, Education with car seat distribution, Law enforcement.
Impaired driving prevention | Policy and Laws, Law enforcement.
Promising strategy:
Distracted driving prevention | Policy and laws, Education, Law enforcement.
Innovative strategy:
Applicant may propose innovative strategy to address motor vehicle injury prevention | Well planned interventions for strategy.

Other motor vehicle related strategies: (1) Pedestrian safety, (2) environmental change, including addressing roadway hazards, (3) off-road vehicle safety (snow machines, all-terrain vehicle).

Unintentional Injuries—Falls
| Interventions for strategy
Evidence-based strategy:
Elder fall prevention | Home fall hazard corrections, Balance and strength exercise.
Innovative strategy:
Applicant may propose innovative strategy to address falls | Well planned interventions for strategy.

Other strategies: Playground fall prevention, Traumatic Brain Injury Prevention.

Unintentional Injuries—Poisoning
| Interventions for strategy
Promising strategy:
Community opioid overdose prevention | Home lock box for medications, Use of drug deactivation bags.
Innovative strategy:
Applicant may propose innovative strategy to prevent poisoning | Well planned interventions for strategy.

Unintentional Injuries—Burns
| Interventions for strategy
Evidence-based strategy:
Home burn prevention | Smoke alarm installation, Home escape plan development.
Innovative strategy:
Applicant may propose innovative strategy to prevent burn injuries | Well planned interventions for strategy.

Unintentional Injuries—Drowning
| Interventions for strategy
Evidence-based strategy:
Use of personal floatation device | Device distribution and education.
Innovative strategy:
Applicant may propose innovative strategy to prevent drowning | Well planned interventions for strategy.

Intentional Injuries

Intentional Injuries—Suicide Prevention
| Interventions for strategy
Evidence-based strategy:
Gatekeeper training—training to teach identification of warning signs and how to respond | Examples include Question, Persuade and Refer (QPR) and Applied Suicide Intervention Skills Training (ASIST).
Reducing access to lethal means | Limiting access to medications and chemicals and removing or locking up firearms and other weapons.
Innovative strategy:
Applicant may propose innovative strategy to prevent suicides | Well planned interventions for strategy.

Intentional Injuries—Violence Related
| Interventions for strategy
Evidence based strategies:
Strategies for the prevention of child abuse and neglect, youth violence, elder abuse, intimate partner violence, and sexual violence | Varies by topic.
Innovative strategy:
Applicant may propose innovative strategy to prevent violence related injuries | Well planned interventions for strategy.

Part I Injury Prevention Programs

The purpose of the Part I—Injury Prevention Program (IPP) is to prevent injuries through development of a program with the following components: (1) A trained Tribal Injury Prevention Coordinator, (2) focused, well implemented project(s) with clear indicators (goals and objectives), (3) a well-executed evaluation plan, (4) established partnerships, (5) activities to sustain the IPP, and (6) reported results.

Responsibilities of the awardee are described below:

Part I—Injury Prevention Program (IPP)

The awardee will:

(1) Hire a full time Tribal Injury Prevention Coordinator.

a. Must be full-time (40 hours/week) and solely dedicated to the management and control of the IPP, and to achieving the aims of the IPP work plan.

b. The position cannot be part-time or split duties or have other duties as assigned.

c. The position may be located within an Urban Indian health organization, Tribal health program, Tribal highway safety program, or a community-based Tribal program.

(2) Develop and maintain an evaluation plan for project data collection including baseline, timeline, and outcomes. Data will be used for priority setting, program planning, and evaluation of interventions.

(3) Develop a five-year plan based on sound morbidity/mortality injury data and evidence-based or promising and innovative strategies. If baseline data are not available at the time of application, the applicant must obtain baseline data before strategies are implemented.

(4) Incorporate injury prevention evidence-based strategies that align with the IHS IPP priorities (motor vehicle related and fall injury prevention) and/or local Tribal injury priorities based on sound justification, including injury morbidity and mortality data.

(5) Tailor the IPP program educational materials with culturally relevant information to promote safe behavior and empower communities to take action in injury prevention.

(6) Develop partnerships through leading or participating in a multidisciplinary injury prevention coalition to share resources, expertise, and collaborate in planning, implementing, and evaluating projects.

(7) Attend the mandatory annual grantee workshop.

(8) Participate in IHS/contractor site visits, conference calls, and webinars.

(9) Successfully complete the IHS Introduction to Injury Prevention Course (Level I) and Intermediate Injury Prevention Course (Level II).

(10) Successfully complete certification trainings necessary for the IPP position such as Child Passenger Safety Technician, Tai Chi Instructor, etc.

(11) Engage in activities to promote sustainability of the IPP.

(12) Submit one article per year to the TIPCAP Newsletter.

Part I Injury Prevention Programs may select up to two strategies to implement in years 1 and 2, and up to three strategies in subsequent years. There is no requirement to implement all corresponding interventions for each strategy. The applicant may choose which interventions to implement. For example, an applicant may select the seat belt use strategy and implement 2 of the 3 corresponding interventions; education and law enforcement. The applicant must decide which components will be most effective in their community. Points will be assigned to each evaluation criteria adding up to a total of 100 possible points. Points are assigned as follows:

A. Part I Introduction and Need for Assistance (20 Points)

1. Describe the following:

a. Need for funding and the injury problem using local, IHS, state, or national injury data for the community or target population, including baseline data.

b. Target population to be served by the proposed program. Provide documentation that the IHS user population is at least 2,500 people. (IHS User population is the ONLY acceptable source).

c. Choice of injury topic(s) to be addressed in the project and reasons for choosing the injury type(s)

B. Part I Project Objective(s), Work Plan and Approach (30 Points)

Goal and objective statements must be clear and concise. The methods and staffing will be evaluated on the extent to which the applicant provides:

1. A multi-year work plan with long-term and short-term goals and objectives and a logic model. The five-year plan will:

a. Contain long-term (5-year) goal statement and short term objective(s) for year 1 and year 2 that are specific, measurable, achievable, relevant, and have a timeframe (SMART). Objectives for years 3 through 5 will be developed after the IPP begins. Sample SMART goals and objectives are available at the IHS IPP website (https://www.ihs.gov/InjuryPrevention/) or Tips for Injury Prevention Program/Project Planning (https://www.ihs.gov/sites/injuryprevention/themes/responsive2017/display_objects/documents/IHS_IPP_Tips%20for_Program%20%20Project_Planning.pdf).

b. Include a work plan that corresponds with short-term objectives. The work plan will include activities, action steps, person(s) responsible and time frame for each short-term objective. A sample work plan is available at the IHS IPP website (https://www.ihs.gov/InjuryPrevention/) or Tips for Injury Prevention Program/Project Planning (https://www.ihs.gov/sites/injuryprevention/themes/responsive2017/display_objects/documents/IHS_IPP_Tips%20for_Program%20%20Project_Planning.pdf).

c. Contain a logic model which demonstrates inputs (personnel and materials), outputs (activities and participation), and outcomes (short, medium, and long term). A sample logic model is available at the IHS IPP website (https://www.ihs.gov/InjuryPrevention/) or Tips for Injury Prevention Program/Project Planning (https://www.ihs.gov/sites/injuryprevention/themes/responsive2017/display_objects/documents/IHS_IPP_Tips%20for_Program%20%20Project_Planning.pdf).

d. Include a description of how the Tribe/applicant will maintain the IPP after the five-year funding cycle ends.

C. Part I Program Evaluation (30 Points)

An evaluation plan must be provided for quality assurance, to measure progress, and to meet the long-term goal of the program or project. The evaluation plan will be designed to measure processes and outcomes (as applicable) for each strategy, intervention, and action step. A sample evaluation plan is available at the IHS IPP website (https://www.ihs.gov/InjuryPrevention/) or Tips for Injury Prevention Program/Project Planning (https://www.ihs.gov/sites/injuryprevention/themes/responsive2017/display_objects/documents/IHS_IPP_Tips%20for_Program%20%20Project_Planning.pdf).

Applicants for the seat belt use strategy will use the IHS Seat Belt Survey Protocol for baseline use rates (if possible). The IHS Seat Belt Survey Protocol is available at the IHS IPP website (https://www.ihs.gov/InjuryPrevention/).

D. Part I Organizational Capabilities, Key Personnel and Qualifications (10 Points)

1. Describe the following:

a. The program or department which will provide oversight, office space, and support for the IPP and for the coordinator

b. Organizational capabilities and key personnel, including degree of commitment

c. Partners and their role in the project or in achieving the goals of the project, including degree and proof of commitment (letter of commitment). Letters of commitment from partners with a substantial role should include specific tasks the partner will perform.

E. Part I Categorical Budget and Budget Justification (10 Points)

Project budgets must include the following:

1. A narrative

2. 1-year categorical budget

3. Justification for funding requested

4. Travel expenses for annual awardee workshop (mandatory participation) at a city and location to be determined by the IHS IPP, including airfare, per diem, lodging, etc. The first annual awardee workshop will be held in the Washington, DC area.

If indirect costs are claimed, indicate and apply the current negotiated rate to the budget.

Part II Evidence-Based and Promising and Innovative Projects

The purpose of the Part II—Evidence-based and Promising and Innovative Strategy Projects is to address injuries through implementation of a small, focused, and manageable project with clear indicators (goals and objectives) and an evaluation plan. Involving appropriate partners is encouraged as well as engaging in activities to sustain the project. Applicant may use up to 20% of total award for salary support.

The awardee will:

(1) Work in partnership with the IHS in decisions involving strategy, injury data (collection, analysis, reporting), use of public information materials, quality assurance, coordination of activities, training, progress reports, budget, and evaluation.

(2) Develop and maintain an evaluation plan for project data collection including baseline, timeline, and outcomes. Data will be used for priority setting, project planning, and evaluation.

(3) Develop a five-year plan based on sound morbidity/mortality injury data and evidence-based or promising and innovative strategies. If baseline data are not available at the time of application, the applicant must obtain baseline data before strategies are implemented.

(4) Successfully complete the IHS Introduction to Injury Prevention Course (Level I).

(5) Participate in IHS/contractor conference calls and webinars.

(6) Engage in activities to promote sustainability of the project.

(7) Attend the mandatory annual awardee workshop.

(8) Submit one article per year to the TIPCAP newsletter.

Part II Evidence-based, Promising or Innovative Projects may select one strategy to implement in years 1 and 2, and up to two strategies in subsequent years. There is no requirement to implement all corresponding interventions for each strategy. The applicant may choose which interventions to implement. For example, an applicant may select the seat belt use strategy and implement 2 of the 3 corresponding interventions; education and law enforcement. The applicant must decide which components will be most effective in their community. Points will be assigned to each evaluation criteria adding up to a total of 100 possible points. Points are assigned as follows:

A. Part II Introduction and Need for Assistance (20 Points)

1. Describe the following:

a. Need for funding and the injury problem using local, IHS, state, or national injury data for the community or target population, including baseline data.

b. Target population to be served by the proposed project (i.e. children under the age of 8, individuals utilizing the community lake, impaired drivers).

c. Choice of injury topic(s) to be addressed in the project and reasons for choosing the injury type(s)

B. Part II Project Objective(s), Work Plan and Approach (30 Points)

Goals and objectives must be clear and concise. The methods and staffing will be evaluated on the extent to which the applicant provides a multi-year work plan with a 5-year goal, objectives for years 1 and 2, and a logic model.

The five-year plan will include clear and concise goal and objective statements. The methods and staffing will be evaluated on the extent to which the applicant provides:

1. A multi-year work plan with long-term and short-term goals and objectives and a logic model. The five-year plan will:

a. Contain a long-term (5-year) goal statement and short term objective(s) for year 1 and year 2 that are specific, measurable, achievable, relevant, and have a timeframe (SMART). Objectives for years 3 through 5 will be developed after the IPP begins. Sample SMART goals and objectives are available at the IHS IPP website or Tips for Injury Prevention Program/Project Planning.

b. Include a work plan that corresponds with short-term objectives. The work plan will include activities, action steps, person(s) responsible and time frame for each short-term objective. A sample work plan is available at the IHS IPP website (https://www.ihs.gov/InjuryPrevention/) or Tips for Injury Prevention Program/Project Planning (https://www.ihs.gov/sites/injuryprevention/themes/responsive2017/display_objects/documents/IHS_IPP_Tips%20for_Program%20%20Project_Planning.pdf).

c. Contain a logic model which demonstrates inputs (personnel and materials), outputs (activities and participation), and outcomes (short, medium, and long term). A sample logic model is available at the IHS IPP website (https://www.ihs.gov/InjuryPrevention/) or Tips for Injury Prevention Program/Project Planning (https://www.ihs.gov/sites/injuryprevention/themes/responsive2017/display_objects/documents/IHS_IPP_Tips%20for_Program%20%20Project_Planning.pdf).

d. Include a description of how the Tribe/applicant will maintain the IPP after the five-year funding cycle ends.

C. Part II Program Evaluation (30 Points)

An evaluation plan must be provided for quality assurance, to measure progress, and to meet the long-term goal of the program or project. The evaluation plan will be designed to measure processes and outcomes (as applicable) for each strategy, intervention, and action step. A sample evaluation plan is available at the IHS IPP website (https://www.ihs.gov/InjuryPrevention/) or Tips for Injury Prevention Program/Project Planning (https://www.ihs.gov/sites/injuryprevention/themes/responsive2017/display_objects/documents/IHS_IPP_Tips%20for_Program%20%20Project_Planning.pdf). Applicants for the seat belt use strategy will use the IHS Seat Belt Survey Protocol for baseline use rates (if possible). The IHS Seat Belt Survey Protocol is available at the IHS IPP website (https://www.ihs.gov/InjuryPrevention/).

D. Part II Organizational Capabilities, Key Personnel and Qualifications (10 Points)

1. Describe the following:

a. The program or department which will provide oversight and support for the project.

b. Organizational capabilities and key personnel, including degree of commitment.

c. Partners and their role in the project or in achieving the goals and objectives of the project, including degree and proof of commitment (letter of commitment).

E. Part II Categorical Budget and Budget Justification (10 Points)

1. Project budgets must include the following:

a. A narrative.

b. 1-year categorical budget.

c. Justification for funding requested.

d. Travel expenses for annual awardee workshop (mandatory participation) at a city and location to be determined by the IHS IPP, including airfare, per diem, lodging, etc. The first annual awardee workshop will be held in the Washington, DC area.

If indirect costs are claimed, indicate and apply the current negotiated rate to the budget.

Multi-Year Project Requirements

Applications must include a brief project narrative and budget (one additional page per year) addressing the developmental plans for each additional year of the project. This attachment will not count as part of the project narrative or the budget narrative.

Additional Documents Can Be Uploaded as Appendix Items in Grants.gov

• Work plan, logic model, evaluation plan, and/or time line for proposed indicators.

• Position descriptions for key staff.

• Resumes of key staff that reflect current duties.

• Consultant or contractor proposed scope of work and letter of commitment (if applicable).

• Current Indirect Cost Agreement.

• Organizational chart.

• Map of area identifying project location(s).

• Additional documents to support narrative (i.e., data tables, key news articles, etc.).

2. Review and Selection

Each application will be prescreened for eligibility and completeness as outlined in the funding announcement. Applications that meet the eligibility criteria shall be reviewed for merit by the Objective Review Committee (ORC) based on evaluation criteria. Incomplete applications and applications that are not responsive to the administrative thresholds will not be referred to the ORC and will not be funded. The applicant will be notified of this determination.

Applicants must address all program requirements and provide all required documentation.

3. Notifications of Disposition

All applicants will receive an Executive Summary Statement from the IHS Injury Prevention Program within 30 days of the conclusion of the ORC outlining the strengths and weaknesses of their application. The summary statement will be sent to the Authorizing Official identified on the face page (SF-424) of the application.

A. Award Notices for Funded Applications

The Notice of Award (NoA) is the authorizing document for which funds are dispersed to the approved entities and reflects the amount of Federal funds awarded, the purpose of the grant, the terms and conditions of the award, the effective date of the award, and the budget/project period. Each entity approved for funding must have a user account in GrantSolutions in order to retrieve the NoA. Please see the Agency Contacts list in Section VII for the systems contact information.

B. Approved but Unfunded Applications

Approved applications not funded due to lack of available funds will be held for one year. If funding becomes available during the course of the year, the application may be reconsidered.

Note: Any correspondence other than the official NoA executed by an IHS grants management official announcing to the project director that an award has been made to their organization is not an authorization to implement their program on behalf of the IHS.

VI. Award Administration Information

1. Administrative Requirements

Cooperative agreements are administered in accordance with the following regulations and policies:

A. The criteria as outlined in this program announcement.

B. Administrative Regulations for Grants:

• Uniform Administrative Requirements for HHS Awards, located at 45 CFR part 75.

C. Grants Policy:

• HHS Grants Policy Statement, Revised 01/07.

D. Cost Principles:

• Uniform Administrative Requirements for HHS Awards, “Cost Principles,” located at 45 CFR part 75, subpart E.

E. Audit Requirements:

• Uniform Administrative Requirements for HHS Awards, “Audit Requirements,” located at 45 CFR part 75, subpart F.

2. Indirect Costs

This section applies to all recipients that request reimbursement of indirect costs (IDC) in their application budget. In accordance with HHS Grants Policy Statement, Part II-27, IHS requires applicants to obtain a current IDC rate agreement, and submit it to DGM, prior to DGM issuing an award. The rate agreement must be prepared in accordance with the applicable cost principles and guidance as provided by the cognizant agency or office. A current rate covers the applicable grant activities under the current award's budget period. If the current rate agreement is not on file with the DGM at the time of award, the IDC portion of the budget will be restricted. The restrictions remain in place until the current rate agreement is provided to the DGM.

Available funds are inclusive of direct and appropriate indirect costs. Approved indirect funds are awarded as part of the award amount, and no additional funds will be provided.

Generally, IDC rates for IHS grantees are negotiated with the Division of Cost Allocation (DCA) https://rates.psc.gov/ or the Department of Interior (Interior Business Center) https://ibc.doi.gov/ICS/tribal. For questions regarding the indirect cost policy, please call the Grants Management Specialist listed under “Agency Contacts” or the main DGM office at (301) 443-5204.

3. Reporting Requirements

The grantee must submit required reports consistent with the applicable deadlines. Failure to submit required reports within the time allowed may result in suspension or termination of an active grant, withholding of additional awards for the project, or other enforcement actions such as withholding of payments or converting to the reimbursement method of payment. Continued failure to submit required reports may result in one or both of the following: (1) The imposition of special award provisions; and (2) the non-funding or non-award of other eligible projects or activities. This requirement applies whether the delinquency is attributable to the failure of the grantee organization or the individual responsible for preparation of the reports. Per DGM policy, all reports are required to be submitted electronically by attaching them as a “Grant Note” in GrantSolutions. Personnel responsible for submitting reports will be required to obtain a login and password for GrantSolutions. Please see the Agency Contacts list in section VII for the systems contact information.

The reporting requirements for this program are noted below.

A. Progress Reports

Program progress reports are required semi-annually, within 30 days after the budget period ends. Reporting templates provided by the IHS IPP must be used and will include highlights from the reporting period, a brief comparison of actual accomplishments to the goals established for the period, a summary of progress to date or, if applicable, provide sound justification for the lack of progress, and other pertinent information as required. A final report must be submitted within 90 days of expiration of the period of performance.

B. Financial Reports

Federal Financial Report (FFR or SF-425), Cash Transaction Reports are due 30 days after the close of every calendar quarter to the Payment Management Services, HHS at https://pms.psc.gov. The applicant is also requested to upload a copy of the FFR (SF-425) into our grants management system, GrantSolutions. Failure to submit timely reports may result in adverse award actions blocking access to funds.

Grantees are responsible and accountable for accurate information being reported on all required reports: The Progress Reports and Federal Financial Report.

C. Data Collection and Reporting

Awardees will collect data for evaluation and informational purposes. Some data variables will be determined by the applicant to meet local program/project needs. However, strategies such as motor vehicle injury prevention and elder fall prevention will have standard data collection variables to allow for overall IHS IPP evaluation and summary. These data will be reported on required templates provided by the IHS IPP.

D. Federal Sub-Award Reporting System (FSRS)

This award may be subject to the Transparency Act sub-award and executive compensation reporting requirements of 2 CFR part 170.

The Transparency Act requires the OMB to establish a single searchable database, accessible to the public, with information on financial assistance awards made by federal agencies. The Transparency Act also includes a requirement for recipients of federal grants to report information about first-tier sub-awards and executive compensation under federal assistance awards.

IHS has implemented a Term of Award into all IHS Standard Terms and Conditions, NoAs and funding announcements regarding the FSRS reporting requirement. This IHS Term of Award is applicable to all IHS grant and cooperative agreements issued on or after October 1, 2010, with a $25,000 sub-award obligation dollar threshold met for any specific reporting period. Additionally, all new (discretionary) IHS awards (where the period of performance is made up of more than one budget period) and where: (1) The period of performance start date was October 1, 2010 or after, and (2) the primary awardee will have a $25,000 sub-award obligation dollar threshold during any specific reporting period will be required to address the FSRS reporting.

For the full IHS award term implementing this requirement and additional award applicability information, visit the DGM Grants Policy website at https://www.ihs.gov/dgm/policytopics/.

E. Compliance With Executive Order 13166 Implementation of Services Accessibility Provisions for All Grant Application Packages and Funding Opportunity Announcements

Recipients of federal financial assistance (FFA) from HHS must administer their programs in compliance with federal civil rights laws that prohibit discrimination on the basis of race, color, national origin, disability, age and, in some circumstances, religion, conscience, and sex. This includes ensuring programs are accessible to persons with limited English proficiency. The HHS Office for Civil Rights provides guidance on complying with civil rights laws enforced by HHS. Please see https://www.hhs.gov/civil-rights/for-providers/provider-obligations/index.html and http://www.hhs.gov/ocr/civilrights/understanding/section1557/index.html.

• Recipients of FFA must ensure that their programs are accessible to persons with limited English proficiency. HHS provides guidance to recipients of FFA on meeting their legal obligation to take reasonable steps to provide meaningful access to their programs by persons with limited English proficiency. Please see https://www.hhs.gov/civil-rights/for-individuals/special-topics/limited-english-proficiency/fact-sheet-guidance/index.html and https://www.lep.gov. For further guidance on providing culturally and linguistically appropriate services, recipients should review the National Standards for Culturally and Linguistically Appropriate Services in Health and Health Care at https://minorityhealth.hhs.gov/omh/browse.aspx?lvl=2&lvlid=53.

• Recipients of FFA also have specific legal obligations for serving qualified individuals with disabilities. Please see http://www.hhs.gov/ocr/civilrights/understanding/disability/index.html.

• HHS funded health and education programs must be administered in an environment free of sexual harassment. Please see https://www.hhs.gov/civil-rights/for-individuals/sex-discrimination/index.html; https://www2.ed.gov/about/offices/list/ocr/docs/shguide.html; and https://www.eeoc.gov/eeoc/publications/fs-sex.cfm.

• Recipients of FFA must also administer their programs in compliance with applicable federal religious nondiscrimination laws and applicable federal conscience protection and associated anti-discrimination laws. Collectively, these laws prohibit exclusion, adverse treatment, coercion, or other discrimination against persons or entities on the basis of their consciences, religious beliefs, or moral convictions. Please see https://www.hhs.gov/conscience/conscience-protections/index.html and https://www.hhs.gov/conscience/religious-freedom/index.html. Please contact the HHS Office for Civil Rights for more information about obligations and prohibitions under federal civil rights laws at https://www.hhs.gov/ocr/about-us/contact-us/index.html or call 1-800-368-1019 or TDD 1-800-537-7697.

F. Federal Awardee Performance and Integrity Information System (FAPIIS)

The IHS is required to review and consider any information about the applicant that is in the Federal Awardee Performance and Integrity Information System (FAPIIS), at http://www.fapiis.gov, before making any award in excess of the simplified acquisition threshold (currently $150,000) over the period of performance. An applicant may review and comment on any information about itself that a federal awarding agency previously entered. IHS will consider any comments by the applicant, in addition to other information in FAPIIS in making a judgment about the applicant's integrity, business ethics, and record of performance under federal awards when completing the review of risk posed by applicants as described in 45 CFR 75.205.

As required by 45 CFR part 75 Appendix XII of the Uniform Guidance, non-federal entities (NFEs) are required to disclose in FAPIIS any information about criminal, civil, and administrative proceedings, and/or affirm that there is no new information to provide. This applies to NFEs that receive federal awards (currently active grants, cooperative agreements, and procurement contracts) greater than $10,000,000 for any period of time during the period of performance of an award/project.

Mandatory Disclosure Requirements

As required by 2 CFR part 200 of the Uniform Guidance, and the HHS implementing regulations at 45 CFR part 75, the IHS must require a non-federal entity or an applicant for a federal award to disclose, in a timely manner, in writing to the IHS or pass-through entity all violations of federal criminal law involving fraud, bribery, or gratuity violations potentially affecting the federal award. Submission is required for all applicants and recipients, in writing, to the IHS and to the HHS Office of Inspector General all information related to violations of federal criminal law involving fraud, bribery, or gratuity violations potentially affecting the federal award. 45 CFR 75.113. Disclosures must be sent in writing to:

U.S. Department of Health and Human Services, Indian Health Service, Division of Grants Management, ATTN: Paul Gettys, Acting Director, 5600 Fishers Lane, Mail Stop: 09E70, Rockville, MD 20857. (Include “Mandatory Grant Disclosures” in subject line). Office: (301) 443-5204, Fax: (301) 594-0899, Email: Paul.Gettys@ihs.gov.

AND

U.S. Department of Health and Human Services, Office of Inspector General, ATTN: Mandatory Grant Disclosures, Intake Coordinator, 330 Independence Avenue SW, Cohen Building, Room 5527, Washington, DC 20201, URL: https://oig.hhs.gov/fraud/report-fraud/. (Include “Mandatory Grant Disclosures” in subject line). Fax: (202) 205-0604 (Include “Mandatory Grant Disclosures” in subject line) or Email: MandatoryGranteeDisclosures@oig.hhs.gov. Failure to make required disclosures can result in any of the remedies described in 45 CFR 75.371 Remedies for noncompliance, including suspension or debarment (see 2 CFR parts 180 & 376).

VII. Agency Contacts

1. Questions on the programmatic issues may be directed to: CAPT Holly Billie, Injury Prevention Program Manager, IHS, OEHE, DEHS, Injury Prevention Program, 5600 Fishers Lane, Rockville, MD 20857, Phone: (301) 443-8620, Fax: (301) 443-7538, Email: Holly.Billie@ihs.gov.

2. Questions on grants management and fiscal matters may be directed to: Andrew Diggs, Grants Management Specialist, 5600 Fishers Lane, Mail Stop: 09E70, Rockville, MD 20857, Phone: (301) 443-2241, Fax: (301) 594-0899, Email: Andrew.Diggs@ihs.gov.

3. Questions on systems matters may be directed to: Paul Gettys, Acting Director, DGM, 5600 Fishers Lane, Mail Stop: 09E70, Rockville, MD 20857, Phone: (301) 443-2114; or the DGM main line (301) 443-5204, Fax: (301) 594-0899, EMail: Paul.Gettys@ihs.gov.

VIII. Other Information

The Public Health Service strongly encourages all grant, cooperative agreement and contract recipients to provide a smoke-free workplace and promote the non-use of all tobacco products. In addition, Public Law 103-227, the Pro-Children Act of 1994, prohibits smoking in certain facilities (or in some cases, any portion of the facility) in which regular or routine education, library, day care, health care, or early childhood development services are provided to children. This is consistent with the HHS mission to protect and advance the physical and mental health of the American people.

Chris Buchanan,
Assistant Surgeon General, RADM, U.S. Public Health Service Deputy Director, Indian Health Service.

[FR Doc. 2020-13180 Filed 6-17-20; 8:45 am]

BILLING CODE 4165-16-P